NEIGHBORHOOD REINVESTMENT CORPORATION

Notice of Sunshine Act Meeting; Audit Committee of the Board of Directors

TIME AND DATE: 11:30 a.m., Thursday, February 9, 2012.

PLACE: 1325 G Street NW., Suite 800, Boardroom, Washington, DC 20005.

STATUS: Open.

CONTACT PERSON FOR MORE INFORMATION: Erica Hall, Assistant Corporate Secretary (202) 220-2376; ehall@nw.org.

AGENDA:

I. CALL TO ORDER

II. External Auditor's Presentation

III. Executive Session with External Auditors

IV. Executive Session with Internal Audit Director

V. Executive Session Related to Pending Litigation

VI. Internal Audit Report with Management's Response

VII. Internal Audit Status Reports

VIII. National Foreclosure Mitigation Counseling (NFMC)/Emergency Homeowners Loan Program (EHLP) Update

IX. OHTS Watch List

X. Adjournment

Erica Hall,
Assistant Corporate Secretary.

[FR Doc. 2012-3064 Filed 2-6-12; 4:15 pm]

BILLING CODE 7570-02-P